DEPARTMENT OF TRANSPORTATION

Federal Aviation Administration

Order Limiting Scheduled Operations at John F. Kennedy International Airport, LaGuardia Airport and Newark Liberty International Airport; High Density Rule at Reagan National Airport

AGENCY: Federal Aviation Administration (FAA), DOT

ACTION: Notice of limited waiver of the slot usage requirement.

SUMMARY: This action announces a limited waiver of the requirements to use slots at Washington's Reagan National Airport and Operating Authorizations (slots) at John F. Kennedy International Airport, LaGuardia Airport, and Newark Liberty International Airport. This policy is effective on selected dates from January 5, 2014, through March 3, 2014.

DATES: Effective Date: March 6, 2014.

FOR FURTHER INFORMATION CONTACT: Lorelei Peter, Senior Attorney, Regulations Division, AGC-200, Federal Aviation Administration, 800 Independence Avenues SW., Washington, DC 20591; telephone number 202-267-3134.

SUPPLEMENTARY INFORMATION:

Background

Recent weather in the East Coast has severely disrupted aviation and other modes of transportation. Multiple storms have resulted in substantial amounts of snow and ice in widespread areas and resulted in airport closures, reduced airport capacity due to snow removal from runways and taxiways, and aircraft deicing programs. Carriers responded by cancelling flights and FAA used traffic management programs as needed to reroute traffic and utilize available airspace and airport capacity. Carriers instituted network operational recovery plans during this time including proactive flight cancellations in advance of the most severe weather to position aircraft and crews needed to resume scheduled operations.

The disruption to the National Airspace System caused by snowstorms and adverse weather forced the cancellation of many flights as carriers made decisions based on safety and other operational criteria. However, the flight disruptions were not limited to the slot controlled airports. Operations at other airports were likewise impacted, including severe winter weather events in the mid-west and southern areas of the U.S. Recovery of normal operations took several days after the initial storms and was exacerbated by subsequent snow storms and other adverse conditions.

Under the FAA's High Density Rule at Washington's Reagan National Airport and orders limiting scheduled operations at the Kennedy International Airport, LaGuardia Airport, and Newark Liberty International Airport, slots must be used at least 80 percent of the time. Slots not meeting the minimum usage rules will be withdrawn or not receive historic precedence for the following scheduling season, depending on the airport. The FAA may grant a waiver from the minimum usage requirements for highly unusual and unpredictable conditions that are beyond the control of the carrier and affect carrier operations for a period of five consecutive days or more.

American Airlines, Inc., Delta Air Lines, Inc., United Airlines, Inc., and US Airways, Inc. individually requested waivers from the minimum slot usage rules at the airports for January 5, 6, 7, 21, and 22 and February 3, 4, 5, 12, 13 and 14. Each carrier stated there was significant disruption to its planned scheduled due to weather on those days. The carriers indicated that they expected to meet the minimum usage requirement and that the higher than normal level of flight cancellations was highly unusual and beyond their control. Other carriers at the airports have advised the FAA that they intend to seek similar relief for some or all of the same dates.

Statement of Policy

The FAA has determined that the facts described above met the criteria for a limited waiver of the minimum slot usage requirement. The operational disruptions impacted many carriers and the FAA has determined that a general waiver of the usage policy is warranted in these circumstances rather than individual carrier relief. The FAA will treat as used, any slot or Operating Authorization held by a carrier on January 5, 6, 7, 21, and 22, 2014; February 3, 4, 5, 12, 13, and 14, 2014; and March 2 and 3, 2014. The FAA does not intend to routinely grant general waivers to the usage requirements. Rules allow for up to 20 percent nonuse, including planned and unplanned cancellations. This is expected to accommodate routine weather and other cancellations under all but the most unusual circumstances.

Issued in Washington, DC on March 6, 2014.
Mark Bury,
Assistant Chief Counsel for International Law, Legislation and Regulations Division.

[FR Doc. 2014-05191 Filed 3-6-14; 11:15 am]

BILLING CODE 4910-13-P